DEPARTMENT OF TRANSPORTATION

National Highway Traffic Safety Administration

Petition for Exemption From the Vehicle Theft Prevention Standard; Honda

AGENCY: National Highway Traffic Safety Administration (NHTSA), Department of Transportation (DOT).

ACTION: Grant of petition for exemption.

SUMMARY: This document grants in full the American Honda Motor Co., Inc.'s (Honda) petition for exemption of the Honda Civic vehicle line in accordance with 49 CFR part 543, Exemption from the Theft Prevention Standard. This petition is granted because the agency has determined that the antitheft device to be placed on the line as standard equipment is likely to be as effective in reducing and deterring motor vehicle theft as compliance with the parts-marking requirements of the Theft Prevention Standard, 49 CFR part 541, Federal Motor Vehicle Theft Prevention Standard.

DATES: The exemption granted by this notice is effective beginning with the 2014 model year (MY).

FOR FURTHER INFORMATION CONTACT: Ms. Carlita Ballard, Office of International Policy, Fuel Economy and Consumer Programs, NHTSA, West Building, W43-439, 1200 New Jersey Avenue SE., Washington, DC 20590. Ms. Ballard's phone number is (202) 366-5222. Her fax number is (202) 493-2990.

SUPPLEMENTARY INFORMATION: In a petition dated December 21, 2012, Honda requested an exemption from the parts-marking requirements of the Theft Prevention Standard (49 CFR part 541) for the new MY 2014 Civic vehicle line. The petition requested an exemption from the parts-marking requirement pursuant to 49 CFR part 543, Exemption from Vehicle Theft Prevention Standard, based on the installation of an antitheft device as standard equipment for an entire vehicle line.

Under § 543.5(a), a manufacturer may petition NHTSA to grant an exemption for one vehicle line per model year. In its petition, Honda provided a detailed description and diagram of the identity, design, and location of the components of the antitheft device for its Civic vehicle line. Honda will install a transponder-based electronic engine immobilizer antitheft device as standard equipment on its Civic vehicle line beginning with MY 2014. Key components of the antitheft device will include a passive immobilizer, transponder ignition key, powertrain control module (PCM) and an Immobilizer Entry System (IMOES). Honda stated that the Civic vehicle line will also come equipped with a steering lock, cabin access, a hood release, counterfeit resistant VIN plates and secondary VINs as standard equipment.

Honda stated that activation of its immobilizer device occurs automatically when the vehicle is started without any further action by the driver. Honda also stated that the device will automatically check for start and validation from the PCM and the IMOES when a valid key having a correctly matching code is inserted into the ignition switch. Honda further stated that if the ignition key does not have a correctly matching code, the PCM will prevent fueling of the engine by allowing the vehicle to start and run for a few seconds before becoming completely inoperable and causing the ignition immobilizer telltale on the meter panel to flash. Honda also stated that the device can be activated by using the key fob to unlock the vehicle doors or by unlocking the driver's door with the ignition key. Deactivation of the immobilizer device occurs when a valid key and matching electronic code are verified allowing the engine to continue normal operations.

In order to attract attention to an unauthorized person attempting to enter its vehicles without the use of a key, Honda stated that it will equip 99.9% of its Civic vehicle line with an audible and visible security system that will sound the vehicle's horn and flash the lights when the doors, hood or trunk is open when a key or key fob is not used to disarm the system. The security system is armed when all of the doors are locked and the hood and trunk are closed and locked.

Honda stated that its Civic vehicle line will also incorporate additional features to prevent unauthorized entry of its vehicles without the use of a key. Specifically, the key and key cylinders are designed with special styling features that help to prohibit theft. Honda also stated that as an additional security measure, key duplication of its keys is controlled by its authorized dealers. Honda further stated that its key cylinders are resistant to tampering and that its key fob remotes utilize rolling codes for the lock and unlock functions of its vehicles. Honda's submission is considered a complete petition as required by 49 CFR 543.7, in that it meets the general requirements contained in § 543.5 and the specific content requirements of § 543.6.

In addressing the specific content requirements of 543.6, Honda provided information on the reliability and durability of its proposed device. To ensure reliability and durability of the device, Honda conducted tests based on its own specified standards. Honda provided a detailed list of the tests and stated that it follows a rigorous development process ensuring that its antitheft device is reliable and robust for the life of the vehicle. Honda also stated that its antitheft device has no moving parts and does not require the presence of a key fob battery to function.

Honda noted that its immobilizer device was first installed as standard equipment on the MY 2001 Honda Civic. Honda submitted a report by the Highway Loss Data Institute showing an overall reduction in theft rates for the Honda Civic after introduction of the device. Specifically, the Highway Loss Data Institute's report showed a significant theft rate reduction from 92 (years 1998-2000) to 59 (years 2001-2003), with the theft rate described as relative to an overall theft average of 100. Honda also stated that the data shows an immediate decrease in thefts in 2001 with the immobilizer and also a sustained lower theft rate in following years.

In support of its belief that its antitheft device will be as or more effective in reducing and deterring vehicle theft than the parts-marking requirement, Honda referenced data showing the effectiveness of its immobilizer device. Specifically, Honda referenced NHTSA's theft rate data which showed a decrease in thefts since the installation of its device. NHTSA's theft rates for the Honda Civic for MYs 2008, 2009 and 2010 are 1.0353, 0.7830 and 0.8349, respectively. Using an average of 3 MYs' theft data (2008-2010), the theft rate for the Civic vehicle line is well below the median at 0.8844.

Based on supporting evidence submitted by Honda on the device, the agency believes that the antitheft device for the Civic vehicle line is likely to be as effective in reducing and deterring motor vehicle theft as compliance with the parts-marking requirements of the Theft Prevention Standard (49 CFR part 541). The agency concludes that the device will provide four of the five types of performance listed in § 543.6(a)(3): promoting activation; preventing defeat or circumvention of the device by unauthorized persons; preventing operation of the vehicle by unauthorized entrants; and ensuring the reliability and durability of the device. Honda stated that it will equip its Honda Civic vehicle line with a security system that will attract attention to the efforts of an unauthorized person to enter or move a vehicle by means other than a key on all models within the Civic line except for its DX trim level vehicles.

Pursuant to 49 U.S.C. 33106 and 49 CFR 543.7 (b), the agency grants a petition for exemption from the parts-marking requirements of Part 541 either in whole or in part, if it determines that, based upon substantial evidence, the standard equipment antitheft device is likely to be as effective in reducing and deterring motor vehicle theft as compliance with the parts-marking requirements of Part 541. The agency finds that Honda has provided adequate reasons for its belief that the antitheft device for the Honda Civic vehicle line is likely to be as effective in reducing and deterring motor vehicle theft as compliance with the parts-marking requirements of the Theft Prevention Standard (49 CFR part 541). This conclusion is based on the information Honda provided about its device.

For the foregoing reasons, the agency hereby grants in full Honda's petition for exemption for the Honda Civic vehicle line from the parts-marking requirements of 49 CFR part 541, beginning with the 2014 model year vehicles. The agency notes that 49 CFR part 541, Appendix A-1, identifies those lines that are exempted from the Theft Prevention Standard for a given model year. 49 CFR 543.7(f) contains publication requirements incident to the disposition of all Part 543 petitions. Advanced listing, including the release of future product nameplates, the beginning model year for which the petition is granted and a general description of the antitheft device is necessary in order to notify law enforcement agencies of new vehicle lines exempted from the parts-marking requirements of the Theft Prevention Standard.

If Honda decides not to use the exemption for this line, it must formally notify the agency. If such a decision is made, the line must be fully marked according to the requirements under 49 CFR 541.5 and 541.6 (marking of major component parts and replacement parts).

NHTSA notes that if Honda wishes in the future to modify the device on which this exemption is based, the company may have to submit a petition to modify the exemption. Section 543.7(d) states that a Part 543 exemption applies only to vehicles that belong to a line exempted under this part and equipped with the anti-theft device on which the line's exemption is based. Further, § 543.9(c)(2) provides for the submission of petitions “to modify an exemption to permit the use of an antitheft device similar to but differing from the one specified in that exemption.”

The agency wishes to minimize the administrative burden that § 543.9(c)(2) could place on exempted vehicle manufacturers and itself. The agency did not intend in drafting Part 543 to require the submission of a modification petition for every change to the components or design of an antitheft device. The significance of many such changes could be de minimis. Therefore, NHTSA suggests that if the manufacturer contemplates making any changes, the effects of which might be characterized as de minimis, it should consult the agency before preparing and submitting a petition to modify.

Authority: 49 U.S.C. 33106; delegation of authority at 49 CFR 1.50.

Issued on: March 26, 2013.
Christopher J. Bonanti,
Associate Administrator for Rulemaking.

[FR Doc. 2013-07354 Filed 3-28-13; 8:45 am]

BILLING CODE 4910-59-P